DEPARTMENT OF COMMERCE

International Trade Administration

Textile and Apparel Products From Vietnam: Import Monitoring Program; Request for Comments

AGENCY: Import Administration, International Trade Administration, Commerce.

ACTION: Request for Public Comment—Import Monitoring of Textile and Apparel Products From Vietnam.

SUMMARY: The Department of Commerce (the Department) is requesting public comment on the development of a monitoring program covering imports of textile and apparel products from Vietnam to remain in place for the duration of this Administration. To help the Department develop the program and, at the same time, be advised of the concerns of all interested stakeholders, the Department is inviting the public to provide input on the monitoring program and identify issues or considerations that they believe are deserving of the Department's attention as implementation of this program proceeds.

DATES: Written comments and electronic files must be received on or before 5 p.m. on December 27, 2006.

ADDRESSES: Persons wishing to comment should file, by the deadline specified above, a signed original and four copies of each set of comments. Written comments should be addressed to David M. Spooner, Assistant Secretary for Import Administration, Room 1870, Department of Commerce, 14th Street and Constitution Ave., NW., Washington, DC 20230. Comments should be limited to 25 pages or less. All comments will be available for public inspection at Import Administration's Central Records Unit, Room B-099, between the hours of 8:30 a.m. and 5 p.m. on business days. The Department will not accept nor consider comments accompanied by a request that a part or all of the material be treated confidentially because of its business proprietary nature or for any other reason.

While the Department requires that comments be submitted in written form, we also recommend submission of comments in electronic form. Comments filed in electronic form should be submitted on CD-ROM, as comments submitted on diskettes are likely to be damaged by postal radiation treatment. Electronic files should indicate that they are in response to the request for public comment on import monitoring of textile and apparel products from Vietnam. Comments received in electronic form will be made available to the public in Portable Document Format (PDF) on the Internet at the Import Administration Web site at the following address: http://ia.ita.doc.gov. Any questions concerning file formatting, document conversion, access on the Internet, or other electronic filing issues should be addressed to Andrew Lee Beller, Import Administration Webmaster, at (202) 482-0866, e-mail address: webmaster-support@ita.doc.gov.

FOR FURTHER INFORMATION CONTACT: Kelly Parkhill at (202) 482-3791.

SUPPLEMENTARY INFORMATION: The Department is establishing a monitoring program on imports of textile and apparel products from Vietnam. The program will begin upon Vietnam's accession to the World Trade Organization (WTO) and will expire at the end of the current administration (January 19, 2009). While we seek comment on what textile and apparel goods should be subject to monitoring, we note that items in the following product groups have been identified as being of special sensitivity: trousers, shirts, underwear, swimwear and sweaters. In addition to monitoring import volumes and values, the Department will develop, in close cooperation with interested parties, production templates to assist it in its biannual evaluation of imports of these products to determine whether sufficient evidence exists to initiate an antidumping investigation consistent with U.S. law and our international obligations under the WTO.

The Department is aware that such a program has an impact on a broad array of parties (e.g., domestic textile and apparel producers, retailers, workers, importers, and the Government of Vietnam) and is seeking input from all interested parties who wish to comment. This is the first step in our outreach to interested parties and will be followed up with other outreach efforts as we progress. If you have any thoughts on what the most effective means of outreach would be, please feel free to comment.

Guidance On Comments: The following is a list of issues and questions on which we are requesting assistance and comment. This is not a questionnaire; it is simply for your convenience. Please feel free to comment on any or all of the issues outlined below as well as provide additional comments that you believe will assist the Department in developing this monitoring program. Please be as specific as possible in your comments, especially with respect to product categories and HTS numbers. When responding, please identify the name of your company. Also please provide contact information including address, phone number and e-mail address.

Consultative Process With Interested Parties

• The Department wants to ensure that all interested parties (e.g., producers, retailers, workers) are given a full opportunity to provide input into all aspects of the process, consistent with legal requirements. Is there any advice you would like to share on the establishment of consultative mechanisms with or outreach efforts to interested parties?

• Are there advisory panels or industry groups that you believe the Department should meet with on an ongoing basis? Please identify and provide contact information, if possible.

• The Department intends to hold public hearings on this process. In addition to hearings in Washington, DC, should the Department consider field hearings in select locations? Are there specific locations where you think such hearings should be held?

• The Department is also considering options for other kinds of outreach sessions. Do you have suggestions for how such sessions should be structured and are there specific locations where or specific parties with whom you think such sessions should be held?

• Are there any other companies, groups or associations whose views you believe are integral to this process? Please identify and, to the extent possible, provide contact information.

Products

• As noted above, five product groups—trousers, shirts, underwear, swimwear and sweaters—have been identified as being of special sensitivity. Within these broader groups, are there any particular products that should be monitored or could act as an indicator or bellwether for the category group as a whole? Please identify and explain.

• What other textile and apparel categories or HTS numbers do you believe should be monitored? Please identify and explain.

• What other textile and apparel product categories or HTS numbers do you believe could be excluded from monitoring? Please identify and explain.

• For any additional textile and apparel categories that you have indicated should be monitored, are there any particular products that could act as an indicator or bellwether for the category group as a whole? Please identify and explain.

• Textile and apparel import data from Vietnam are currently publicly available in the Major Shipper Reports issued by Import Administration's Office of Textiles and Apparel (OTEXA). These reports include volume and value (US$) data according to the historical product categories used in current monitoring activities. Is there any other type of publicly available aggregate information that should be used for purposes of the Vietnam monitoring program?

• In monitoring products, should the Department focus on products that specific U.S. domestic producers have identified as being products they produce? If not, please explain why?

• Are there any other comments relating to products that you wish to provide?

Production Templates

• As part of the monitoring system, the Department of Commerce may find it necessary to develop production templates to assist it in its evaluation of textile and apparel imports from Vietnam. Development of these templates will require a detailed understanding of the production process associated with the products to be monitored. Once product categories have been selected, we will be, if necessary, soliciting information on these production templates.

• As part of this process, the Department would likely examine information from market economy countries that it believes are most similar to Vietnam. In this regard, what countries would be the most appropriate for the Department to examine? To your knowledge, what market economy countries have the most similar textile and apparel industries to Vietnam? Please explain.

• Are there any other comments with respect to production templates that you wish to provide?

Domestic Industry Information

• As part of its monitoring, the Department will examine a broad range of public information on the domestic textile and apparel industry (e.g., production, capacity utilization, employment). In your opinion, what information on the domestic industry should the Department examine as part of this process? Are there sources that you recommend for such information? Please identify and explain.

• The Department will also examine public information on the domestic textile and apparel market (e.g., demand, domestic prices, market share). In your opinion, what information on the domestic market should the Department examine as part of this process? Are there sources that you recommend for such information? Please identify and explain.

• Should the Department also examine global industry and market information? In your opinion, what information should the Department examine as part of this process? Are there sources that you recommend for such information? Please identify and explain.

• Is there any other industry or market information that you think should be examined as part of this process? Are there sources that you recommend for such information? Please identify and explain.

• How can the Department best ascertain the effects of shifts in the type of textile and apparel imports from Vietnam on the domestic textile and apparel industry?

• Please identify interested parties (e.g., producers, retailers, workers) who are, in your view, relevant to our examination of the domestic industry.

• Are there any other comments with respect to the domestic industry that you wish to provide?

Biannual Evaluation Process

• Every six months, for the duration of the monitoring program, the Department will evaluate the information it has compiled as part of this effort. What information do you think is most important for the Department to consider in its evaluation process?

• As part of the biannual process, should the Department also undertake intermittent, mid-term or staged analyses of import and market trends? If so, what should be the focus of this analysis?

• What advice do you have with respect to the consultative process with interested parties (e.g., industry, retailers, workers) to be undertaken as part of the biannual evaluation process? Should the Department hold hearings or conduct outreach as part of this process?

• Are there any other comments you wish to provide on the biannual evaluation process.

Public Dissemination of Information

• What information should be disseminated to the public as part of this process (e.g., import data, U.S. industry information)?

• Is there any information that you think should not be publicly disseminated (please note that the Department is prohibited from releasing business proprietary information to the public)? Please explain why.

Additional Comments

• Do you have any additional comments? Are there any other concerns that you wish the Department to be aware of as it develops this monitoring program?

Dated: November 30, 2006.
David M. Spooner,
Assistant Secretary for Import Administration.

[FR Doc. E6-20545 Filed 12-1-06; 8:45 am]

BILLING CODE 3510-DS-P